DEPARTMENT OF TRANSPORTATION

Surface Transportation Board

[STB Finance Docket No. 34023]

Mohall Railroad, Inc.—Acquisition and Operation Exemption—Line of The Burlington Northern and Santa Fe Railway Company

Mohall Railroad, Inc. (MRI), a Class III rail carrier, has filed a notice of exemption under 49 CFR 1150.41 to acquire and operate approximately 20.09 miles of rail line owned by The Burlington Northen and Santa Fe Railway Company (BNSF). The line to be acquired and operated extends from milepost 137.09 near Voss, ND, south to the end of the track, at milepost 117.0 near Honeyford, ND. MRI states that an agreement has been reached between BNSF and MRI, and a sales agreement will be executed prior to the anticipated sale closing on April 5, 2001, with the transfer of operations to MRI set for the later of April 6, 2001, or the March 29, 2001 effective date of the exemption. MRI certifies that its projected annual revenues will not exceed those that would qualify it as a Class III rail carrier and its revenues are not projected to exceed $5 million.¹

¹ MRI states that it will enter into an operating agreement with Northern Plains Railroad, Inc. (NPR), a Class III rail carrier, whereby NPR will be the operator of the line to be acquired by MRI. See Northern Plains Railroad, Inc.—Lease and Operation Exemption—Certain Lines of Soo Line Railroad Company d/b/a Canadian Pacific Railway, STB Finance Docket No. 33324 (STB served Jan. 9, 1997).

If the notice contains false or misleading information, the exemption is void ab initio. Petitions to revoke the exemption under 49 U.S.C. 10502(d) may be filed at any time. The filing of a petition to revoke does not automatically stay the transaction.

An original and 10 copies of all pleadings, referring to STB Finance Docket No. 34023, must be filed with the Surface Transportation Board, Office of the Secretary, Case Control Unit, 1925 K Street, NW., Washington, DC 20423-0001. In addition, one copy of each pleading must be served on Byron D. Olsen, Esq., Felhaber, Larson, Fenlon & Vogt, P.A., 601 Second Avenue South, Suite 4200, Minneapolis, MN 55402.

Board decisions and notices are available on our website at “www.stb.dot.gov.”

Decided: March 27, 2001.
By the Board, David M. Konschnik, Director, Office of Proceedings.
Vernon A. Williams,
Secretary.

[FR Doc. 01-8143 Filed 4-2-01; 8:45 am]

BILLING CODE 4915-00-P